DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 7, 2006.

Interested persons are invited to submit written comments regarding the subject matter of the investigations to the Director, Division of Trade Adjustment Assistance, at the address shown below, not later than September 7, 2006.

The petitions filed in this case are available for inspection at the Office of the Director, Division of Trade Adjustment Assistance, Employment and Training Administration, U.S. Department of Labor, Room C-5311, 200 Constitution Avenue, NW., Washington, DC 20210.

Signed at Washington, DC this 16th day of August 2006.
Erica R. Cantor,
Director, Division of Trade Adjustment Assistance.

Appendix
[TAA petitions instituted between 8/7/06 and 8/11/06]
TA-W | Subject firm (petitioners) | Location | Date of institution | Date of petition
59851 | B.A. Ballou and Co., Inc. (Comp) | East Providence, RI | 08/07/06 | 07/28/06
59852 | Sekisui TA Industries (Wkrs) | Cranston, RI | 08/07/06 | 08/03/06
59853 | Janna U Gone Associates, Inc. (State) | Easthampton, MA | 08/07/06 | 08/04/06
59854 | Esselte Corporation (Wkrs) | Union, MO | 08/07/06 | 08/04/06
59855 | Reliance Trading Company of America (Comp) | Bennettsville, SC | 08/07/06 | 08/07/06
59856 | Kimball Electronics (Wkrs) | Jasper, IN | 08/08/06 | 08/02/06
59857 | Culpepper Plastics Corporation (Comp) | Clinton, AR | 08/08/06 | 08/02/06
59858 | Cardsmart (Comp) | Pawtucket, RI | 08/08/06 | 08/07/06
59859 | IBM (State) | Lexington, KY | 08/08/06 | 08/03/06
59860 | Project Service, Inc. (Wkrs) | Parks Falls, WI | 08/08/06 | 08/04/06
59861 | Bayer Healthcare (Wkrs) | West Haven, CT | 08/08/06 | 08/07/06
59862 | Creative Window Fashions, Inc. (Comp) | Fall River, MA | 08/08/06 | 08/08/06
59863 | Delphi Automotive (IUE) | Moraine, OH | 08/08/06 | 08/08/06
59864 | YKK (U.S.A.), Inc. (Comp) | Lyndhurst, NJ | 08/08/06 | 08/07/06
59865 | L.A. Dreyfus Company (Comp) | Edison, NJ | 08/09/06 | 08/08/06
59866 | Troy Design, Inc. (State) | Troy, MI | 08/09/06 | 08/04/06
59867 | Johnson Controls, Inc. (State) | Mt. Clemens, MI | 08/09/06 | 08/08/06
59868 | Global Accessories, Inc. (Comp) | Fremont, OH | 08/09/06 | 08/08/06
59869 | Coors Brewing Company (Wkrs) | Memphis, TN | 08/09/06 | 08/08/06
59870 | Cerro Flow Products, Inc. (USW) | Sauget, IL | 08/09/06 | 08/08/06
59871 | Agilent Technologies (Wkrs) | Andover, MA | 08/09/06 | 07/24/06
59872 | Tri-Matic Screw Products, Inc. (Comp) | Howell, MI | 08/09/06 | 08/08/06
59873 | JC Tec Industries, Inc. (Comp) | Annville, KY | 08/09/06 | 08/07/06
59874 | AHLStrom Air Media, LLC (Wkrs) | New Windsor, NY | 08/09/06 | 08/01/06
59875 | Gerard Daniel Worldwide (Comp) | Hanover, PA | 08/09/06 | 08/09/06
59876 | Glide Lumber, LLC (Comp) | Glide, OR | 08/09/06 | 07/25/06
59877 | BIC Corporation (Comp) | Milford, CT | 08/09/06 | 08/09/06
59878 | Bank of America (Wkrs) | Scranton, PA | 08/09/06 | 07/24/06
59879 | Fashion Ave Knits, Inc. (Wkrs) | New York, NY | 08/09/06 | 08/09/06
59880 | Meredith's Home Fashions (Comp) | Westwood, MA | 08/10/06 | 08/02/06
59881 | Russell Corporation (Comp) | Alexander City, AL | 08/10/06 | 08/09/06
59882 | Safetran Traffic Systems, Inc. (Comp) | Colorado Springs, CO | 08/10/06 | 08/09/06
59883 | MacDonald's Industrial Products (Comp) | Spencerville, OH | 08/10/06 | 08/08/06
59884 | Rexnord Corp. (Union) | Milwaukee, WI | 08/10/06 | 07/20/06
59885 | Skyland Tool and Mold, Inc. (Comp) | Arden, NC | 08/10/06 | 08/09/06
59886 | Apex Apparel Co. (State) | Kearny, NJ | 08/10/06 | 08/10/06
59887 | Llink Technologies, LLC (Comp) | Romeo, MI | 08/10/06 | 08/10/06
59888 | Oakwood Plastics (Comp) | Taylor, MI | 08/10/06 | 08/10/06
59889 | Kirin Cutting Service, Inc. (Wkrs) | San Francisco, CA | 08/11/06 | 08/10/06
59890 | Markar Architectural Products (Wkrs) | Lancaster, NY | 08/11/06 | 08/10/06
59891 | NER Data Products Inc. (Comp) | Denver, CO | 08/11/06 | 08/11/06
59892 | Golden Star Manufacturing (Wkrs) | Atchinson, KS | 08/11/06 | 08/11/06
59893 | Corinth Products Co., Inc. (Comp) | Corinth, ME | 08/11/06 | 08/10/06
59894 | Hewitt Tool Co. (State) | Royal Oak, MI | 08/11/06 | 08/02/06
59895 | Brake Parts, Inc. (Comp) | Litchfield, IL | 08/11/06 | 08/11/06
59896 | Advantage Technologies, Inc. (Comp) | Plymouth, MI | 08/11/06 | 08/11/06

[FR Doc. E6-14221 Filed 8-25-06; 8:45 am]

BILLING CODE 4510-30-P